ENVIRONMENTAL PROTECTION AGENCY

[EPA-HQ-OAR-2010-0108; FRL-9467-8]

Release of Risk and Exposure Assessment Planning Document for the Review of the National Ambient Air Quality Standards for Lead

AGENCY: Environmental Protection Agency (EPA).

ACTION: Notice of availability.

SUMMARY: On June 28, 2011, the EPA made available for public review the Review of the National Ambient Air Quality Standards for Lead: Risk and Exposure Assessment Planning Document (REA Planning Document). This document considers the extent to which information and conclusions presented in the first external review draft of the Integrated Science Assessment (ISA) for this review (Lead Integrated Science Assessment (First External Review Draft) (First Draft ISA) provides support for the development of quantitative assessments of risk and exposure for health and/or welfare effects in this review of the national ambient air quality standards (NAAQS) for lead (Pb).

DATES: Comments should be received on or before October 21, 2011.

ADDRESSES: This document is available primarily via the Internet at the following Web site: http://www.epa.gov/ttn/naaqs/standards/pb/s_pb_index.html. Submit your comments, identified by Docket ID No. EPA-HQ-OAR-2010-0108, by one of the following methods:

• http://www.regulations.gov: Follow the on-line instructions for submitting comments.

• E-mail: a-and-r-Docket@epa.gov.

• Fax: 202-566-91741.

• Mail: EPA-HQ-OAR-2010-0108, Environmental Protection Agency, Mail code 6102T, 1200 Pennsylvania Ave., NW., Washington, DC 20460. Please include a total of two copies.

• Hand Delivery: Environmental Protection Agency, EPA West, Room 3334, 1301 Constitution Ave., NW., Washington, DC. Such deliveries are only accepted during the Docket's normal hours of operation, and special arrangements should be made for deliveries of boxed information.

Instructions: Direct your comments to Docket ID No. EPA-HQ-OAR-2010-0108. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov (or e-mail). The http://www.regulations.gov website is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket and Information Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air and Radiation Docket and Information Center is (202) 566-1742.

FOR FURTHER INFORMATION CONTACT: Dr. Zachary Pekar, Office of Air Quality Planning and Standards (Mail code C539-07), U.S. Environmental Protection Agency, Research Triangle Park, NC 27711; telephone number: 919-541-3704; fax number: 919-541-5315; e-mail address: pekar.zachary@epa.gov. For further information on the ecological risk assessment chapter, contact Dr. Travis Smith, Office of Air Quality Planning and Standards (Mail code C539-07), U.S. Environmental Protection Agency, Research Triangle Park, NC 27711; telephone number: 919-541-2035; fax number: 919-541-5315; e-mail address: smith.jtravis@epa.gov.

SUPPLEMENTARY INFORMATION:

I. General Information

A. What should I consider as I prepare my comments for EPA?

1. Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Information Specific to This Document

Two sections of the Clean Air Act govern the establishment and revision of the NAAQS. Section 108 (42 U.S.C. 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary sources;” and “for which * * * [the Administrator] plans to issue air quality criteria * * *” Air quality criteria are intended to “accurately reflect the latest scientific knowledge useful in indicating the kind and extent of all identifiable effects on public health or welfare which may be expected from the presence of [a] pollutant in the ambient air * * * ” 42 U.S.C. 7408(b). Under section 109 (42 U.S.C. 7409), EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria * * * and the national primary and secondary ambient air quality standards * * * and shall recommend to the Administrator any new * * * standards and revisions of existing criteria and standards as may be appropriate. * * *” Since the early 1980's, this independent review function has been performed by the Clean Air Scientific Advisory Committee (CASAC).

Presently, EPA is reviewing the NAAQS for Pb.¹ The First Draft ISA was released in early May (76 FR 26284) and reviewed by CASAC at a public meeting announced in a separate notice (76 FR 36120). The document that is the subject of today's notice considers the extent to which information and conclusions presented in the First Draft ISA provide support for the development of quantitative assessments of risk and exposure for health and/or welfare effects. This document is available on the EPA's Technology Transfer Network Web site at http://www.epa.gov/ttn/naaqs/standards/pb/s_pb_index.html. The document is accessible in the “Documents from Current Review” section under “Planning Documents.”

¹ The EPA's call for information for this review was issued on February 26, 2010 (75 FR 8934).

The REA Planning Document has been made available for consultation with CASAC and for public comment. Comments should be submitted to the docket, as described above. The CASAC consultation on this planning document occurred on July 21, 2011. A separate Federal Register notice published on June 21, 2011 (76 FR 36120) provided additional details about this meeting and the process for participation. The document that is the subject of today's notice does not represent and should not be construed to represent any final EPA policy, viewpoint, or determination.

Dated: September 15, 2011.
Mary Henigin,
Acting Director, Office of Air Quality Planning and Standards.

[FR Doc. 2011-24280 Filed 9-20-11; 8:45 am]

BILLING CODE 6560-60-P